DEPARTMENT OF STATE

[Public Notice: 9607]

Notice of Availability of the Final Environmental Assessment and Finding of No Significant Impact for the NuStar Burgos Pipeline Projects Presidential Permit Applications Review, Hidalgo County, Texas

AGENCY: Department of State.

ACTION: Notice of availability.

SUMMARY: The U.S. Department of State (Department) is issuing this notice to advise the public that on June 10, 2016 the Department approved a Finding of No Significant Impact (FONSI) based on the Final Environmental Assessment (Final EA) for the NuStar Burgos Pipeline Projects Presidential Permit Applications Review. The Department prepared the Final EA consistent with the National Environmental Policy Act (NEPA) of 1969 (42 U.S.C. 4321, et seq.), the regulations of the Council on Environmental Quality (CEQ) (40 CFR parts 1500-1508), and the Department's implementing regulations (22 CFR part 161). The Department has determined the proposed action would not have a significant effect on the environment and therefore, the preparation of an Environmental Impact Statement is not required. The FONSI is not a decision on the Presidential Permit applications. In accordance with Executive Order (E.O.) 13337, the Department will now proceed to make a determination as to whether issuance of Presidential Permits for NuStar Logistics, L.P.'s proposed cross-border pipeline facilities projects would serve the national interest. That determination process involves consideration of many factors, including foreign policy; energy security; environmental, cultural, and economic impacts; compliance with applicable law and regulations; and other issues.

DATES: The FONSI and Final EA are available as of the publication date of this notice.

ADDRESSES: Copies of the FONSI and Final EA are available at the following:

• McAllen Public Library, 4001 N. 23rd St., McAllen, TX 78504

• http://www.state.gov/e/enr/applicant/applicants/c66757.htm

Copies of the FONSI and Final EA may also be requested by email at NuStarBurgosReview@state.gov or by mail from: Burgos Project Manager, Office of Environmental Quality and Transboundary Issues (OES/EQT): Suite 2726, U.S. Department of State, 2201 C Street NW., Washington, DC 20520.

SUPPLEMENTARY INFORMATION: The Department evaluates Presidential permit applications under E.O. 13337 and E.O. 14432. E.O. 13337 delegates to the Secretary of State the President's authority to receive applications for permits for the construction, connection, operation, or maintenance of facilities for the exportation or importation of petroleum, petroleum products, coal, or other fuels (except for natural gas), at the borders of the United States, and to issue or deny such Presidential Permits upon a national interest determination.

In December 2014, NuStar submitted two applications to the Department. The first application requests a new Presidential Permit to replace a 2006 Presidential Permit, that would: (1) Reflect NuStar's name change from Valero Logistics Operations, L.P. to NuStar Logistics, L.P. as the owner and operator of the 34-mile-long 8-inch outer diameter pipeline and border facilities for which NuStar was issued a Presidential Permit in 2006 (Existing Burgos Pipeline) for the import and export of light naphtha and (2) authorize the Existing Burgos Pipeline to transport a broader range of petroleum products than previously authorized, including diesel, gasoline, jet fuel, liquefied petroleum gas, and natural gas liquids. The second application requests that the Department issue a Presidential Permit for construction, connection, operation, and maintenance of a new 10-inch outer diameter pipeline and associated facilities in the same right of way as the Existing Burgos Pipeline. The second application also requests authorization for this new pipeline and associated facilities to transport the same range of products requested under the first permit application for the Existing Burgos Pipeline. Both pipelines would connect the Petroleos Mexicanos (PEMEX) Burgos Gas Plant near Reynosa, Tamaulipas, Mexico and the NuStar terminal near Edinburg, Texas in Hidalgo County, Texas at the United States-Mexico border.

Deborah Klepp,
Director, Office of Environmental Quality and Transboundary Issues, Department of State.

[FR Doc. 2016-14292 Filed 6-15-16; 8:45 am]

BILLING CODE 4710-05-P